NUCLEAR WASTE TECHNICAL REVIEW BOARD

Notice of Meeting Postponement

ACTION: Notice of meeting postponement.

November 6, 2025—The U.S. Nuclear Waste Technical Review Board is postponing the public meeting scheduled for November 13, 2025. A future meeting date will be announced in the Federal Register and posted to the Board's website.

The public meeting of the Nuclear Waste Technical Review Board scheduled to occur in Arlington, Virginia, on Thursday, November 13, 2025, to receive program updates from Department of Energy's (DOE) Office of Spent Fuel and High-Level Waste Disposition, within the Office of Nuclear Energy (DOE-NE) has been postponed. The meeting will be re-scheduled, and a new notice will be published in the Federal Register and posted to the Board's website at www.nwtrb.gov. The original notice for the November 13, 2025, public meeting was published on September 12, 2025, FR Doc. 2025-17673, at 90 FR 44252.

The Board is an independent federal agency in the Executive Branch. It was established in the Nuclear Waste Policy Amendments Act of 1987 (Pub. L. 100-203) to perform ongoing evaluation of the technical and scientific validity of U.S. Department of Energy activities related to developing and implementing a program for the management and disposal of spent nuclear fuel and high-level radioactive waste, in accordance with the terms of the Nuclear Waste Policy Act of 1982. Board members serve part-time and are appointed by the President from a list of nominees submitted by the National Academy of Sciences. The Board reports its findings, conclusions, and recommendations to Congress and the Secretary of Energy. Board reports, correspondence, congressional testimony, meeting transcripts, and related materials are posted on the Board's website.

For information regarding the postponement, contact Mr. Christopher Burk, Director External Affairs, at burk@nwtrb.gov; by telephone at 703-235-4486; by mail at 2300 Clarendon Boulevard, Suite 1300, Arlington, VA 22201-3367; or by fax at 703-235-4495.

Dated: November 6, 2025.
Neysa Slater-Chandler,
Director of Administration, U.S. Nuclear Waste Technical Review Board.

[FR Doc. 2025-19835 Filed 11-7-25; 8:45 am]

BILLING CODE 6820-AM-P